DEPARTMENT OF THE INTERIOR

National Park Service

[NPS-WASO-NAGPRA-12188; 2200-1100-665]

Notice of Intent To Repatriate Cultural Items: Grand Rapids Public Museum, Grand Rapids, MI

AGENCY: National Park Service, Interior.

ACTION: Notice.

SUMMARY: The Grand Rapids Public Museum, in consultation with the appropriate Indian tribe, has determined that the cultural items meet the definition of unassociated funerary objects and repatriation to the Indian tribe stated below may occur if no additional claimants come forward. Representatives of any Indian tribe that believes itself to be culturally affiliated with the cultural items may contact the Grand Rapids Public Museum.

DATES: Representatives of any Indian tribe that believes it has a cultural affiliation with the cultural items should contact the Grand Rapids Public Museum at the address below by March 21, 2013.

ADDRESSES: Marilyn Merdzinski, Director of Education & Interpretation, Grand Rapids Public Museum, 272 Pearl St. NW., Grand Rapids, MI 49501, telephone (616) 929-1801.

SUPPLEMENTARY INFORMATION: Notice is here given in accordance with the Native American Graves Protection and Repatriation Act (NAGPRA), 25 U.S.C. 3005, of the intent to repatriate cultural items in the possession of the Grand Rapids Public Museum that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

At an unknown date, one unassociated funerary object was removed from a mound at an unknown location in Kentucky and acquired by the Grand Rapids Public Museum from a source with the initials “K.S.I.” (likely Kent Scientific Institute, the former name of the Grand Rapids Public Museum). The object is a stone human effigy vessel that was identified in the museum records as a “[w]aterbottle of sundried (probably Peruvian Indian make) clay for burial with dead S (W?), KY.” Digital images of the object were reviewed by the Chickasaw Nation Preservation and Repatriation Department and a professor at Murray State University. It was determined that this vessel was identical to a human effigy vessel from Wickcliffe Mounds, KY, and likely affiliated with the Chickasaw Nation. In the Great Chickasaw Cession of 1818, lands were ceded in western Kentucky to the U.S. Government and traditional tribal hunting and trading routes covered a large portion of Kentucky. Therefore, it is conceivable that this stone human effigy vessel is culturally affiliated with the Chickasaw Nation.

In May and November of 1912, one lot of unassociated funerary objects was removed from an unknown location near Tupelo in Lee County, MS, by W. C. Wyman. At an unknown date, the lot of unassociated funerary objects was sold to Dr. Ruth Herrick by an unknown person. In 1974, the lot of unassociated funerary objects was bequeathed to the Grand Rapids Public Museum by Dr. Ruth Herrick. The lot of unassociated funerary objects is identified in the Grand Rapids Public Museum's records as “large beads, glass, shell, and bone, early trade beads.” Digital images of these objects were reviewed by the Chickasaw Nation Preservation and Repatriation Department, who determined that these objects are likely affiliated with the Chickasaw Nation.

At an unknown date, 1 lot of unassociated funerary objects was removed from an unknown location near Tupelo in Lee County, MS, by an unknown individual. At an unknown date, the lot of unassociated funerary objects was acquired by Dr. Ruth Herrick. In 1974, the lot of associated funerary objects was bequeathed to the Grand Rapids Public Museum by Dr. Ruth Herrick. The lot of unassociated funerary objects is identified in the Grand Rapids Public Museum's records as “animal bone and shell beads, identified by donor and G. Olson.” Digital images of these objects were reviewed by the Chickasaw Nation Preservation and Repatriation Department, who determined that these objects are likely affiliated with the Chickasaw Nation. Documented evidence of Chickasaw occupation in northern Mississippi supports cultural affiliation of the two lots of unassociated funerary objects from Lee County, MS, with the Chickasaw Nation.

Determinations Made by the Grand Rapids Public Museum

Officials of the Grand Rapids Public Museum have determined that:

• Pursuant to 25 U.S.C. 3001(3)(B), the 3 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Chickasaw Nation.

Additional Requestors and Disposition

Representatives of any other Indian tribe that believes itself to be culturally affiliated with the unassociated funerary objects should contact Marilyn Merdzinski, Director of Education & Interpretation, Grand Rapids Public Museum, 272 Pearl St. NW., Grand Rapids, MI 49501, telephone (616) 929-1801 March 21, 2013. Repatriation of the unassociated funerary objects to the Chickasaw Nation may proceed after that date if no additional claimants come forward.

The Grand Rapids Public Museum is responsible for notifying the Chickasaw Nation that this notice has been published.

Dated: January 25, 2013.
Melanie O'Brien,
Acting Manager, National Native American Graves Protection and Repatriation Act Program.

[FR Doc. 2013-03655 Filed 2-15-13; 8:45 am]

BILLING CODE 4312-50-P